DEPARTMENT OF COMMERCE

National Oceanic and Atmospheric Administration

RIN 0648-XA374

Endangered and Threatened Species; Take of Anadromous Fish

AGENCY: National Marine Fisheries Service (NMFS), National Oceanic and Atmospheric Administration (NOAA), Commerce.

ACTION: Notice of receipt of a permit application; request for comments.

SUMMARY: Notice is hereby given that NMFS has received an application for a permit to conduct research for scientific purposes from the United Water Conservation District (United) in Santa Paula, California. The requested permit would affect the endangered Southern California (SC) Distinct Population Segment (DPS) of steelhead (Oncorhynchus mykiss). The public is hereby notified of the availability of the permit application for review and comment before NMFS either approves or disapproves the application.

DATES: Written comments on the permit application must be received at the appropriate address or fax number (see ADDRESSES) on or before May 19, 2011.

ADDRESSES: Written comments on the permit application should be sent to Matt McGoogan, Protected Resources Division, NMFS, 501 W. Ocean Blvd., Suite 4200, Long Beach, CA 90802. Comments may also be sent using e-mail FRNpermits.lb@noaa.gov or fax (562) 980-4027. The permit application is available for review, by appointment, at the foregoing address and is also available for review online at the Authorizations and Permits for Protected Species Web site at https://apps.nmfs.noaa.gov.

FOR FURTHER INFORMATION CONTACT: Matt McGoogan at phone number (562) 980-4026 or e-mail: matthew.mcgoogan@noaa.gov.

SUPPLEMENTARY INFORMATION:

Authority

Issuance of permits, as required by the Endangered Species Act of 1973 (16 U.S.C. 1531-1543) (ESA), is based on a finding that such permits: (1) Are applied for in good faith; (2) would not operate to the disadvantage of the listed species which are the subject of the permits; and (3) are consistent with the purposes and policies set forth in Section 2 of the ESA. Authority to take listed species is subject to conditions set forth in the permits. Permits are issued in accordance with and are subject to the ESA and NMFS regulations governing listed fish and wildlife permits (50 CFR parts 222-226).

Those individuals requesting a hearing on an application listed in this notice should provide the specific reasons why a hearing on that application would be appropriate (see ADDRESSES). The holding of such a hearing is at the discretion of the Assistant Administrator for Fisheries, NOAA. All statements and opinions contained in the permit action summaries are those of the applicant and do not necessarily reflect the views of NMFS.

Permit Application Received

United has applied for a permit (permit 15496) to study steelhead in the Santa Clara River watershed. The primary objectives of this study are to (1) evaluate smolt migration rates in a highly altered channel with a dynamic groundwater and surface water interchange, and (2) evaluate the effects of increased water temperature during surface flow loss and how this affects migration rates of smolts and the ability of smolts to successfully migrate to the ocean. Research activities include monitoring streamflow and water temperature, capturing smolts in a downstream migrant trap located at United's Freeman Diversion, recording weight and length of captured smolts, taking tissue (scale and fin clip) samples from each smolt, tagging captured smolts with Advanced Telemetry Systems (ATS) tags, and using portable and stationary antennas, receivers, and data loggers capable of tracking ATS tags to compile smolt movement data. Field activities will occur between May 2011 and December 2015. United has requested an annual non-lethal take (ATS tag implantation and tissue samples) of up to 100 smolts as part of the proposed study. The unintentional lethal take that may occur as a result of research activities is up to 3 smolts annually. Overall, no intentional lethal take of steelhead is expected in association with any aspect of these research activities. See the permit application for greater details on study description and methodology.

Dated: April 13, 2011.
Angela Somma,
Chief, Endangered Species Division, Office of Protected Resources, National Marine Fisheries Service.

[FR Doc. 2011-9450 Filed 4-18-11; 8:45 am]

BILLING CODE 3510-22-P